NUCLEAR REGULATORY COMMISSION

Biweekly Notice; Applications and Amendments to Facility Operating Licenses; Involving No Significant Hazards Considerations

I. Background

Pursuant to section 189a. (2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from June 21, 2007 to July 3, 2007. The last biweekly notice was published on July 3, 2007 (72 FR 36520).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination. Within 60 days after the date of publication of this notice, the licensee may file a request for a hearing with respect to issuance of the amendment to the subject facility operating license and any person whose interest may be affected by this proceeding and who wishes to participate as a party in the proceeding must file a written request for a hearing and a petition for leave to intervene.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland 20852, Attention: Rulemaking and Adjudications Staff; (3) E-mail addressed to the Office of the Secretary, U.S. Nuclear Regulatory Commission, HearingDocket@nrc.gov; or (4) facsimile transmission addressed to the Office of the Secretary, U.S. Nuclear Regulatory Commission, Washington, DC, Attention: Rulemaking and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to (301) 415-3725 or by e-mail to OGCMailCenter@nrc.gov. A copy of the request for hearing and petition for leave to intervene should also be sent to the attorney for the licensee.

Nontimely requests and/or petitions and contentions will not be entertained absent a determination by the Commission or the presiding officer of the Atomic Safety and Licensing Board that the petition, request and/or the contentions should be granted based on a balancing of the factors specified in 10 CFR 2.309(a)(1)(i)-(viii).

For further details with respect to this action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Nuclear Management Company, LLC, Docket Nos. 50-282 and 50-306, Prairie Island Nuclear Generating Plant (PINGP), Units 1 and 2, Goodhue County, Minnesota

Date of amendment request: May 10, 2007.

Description of amendment request: The proposed amendments would modify the Technical Specifications (TS) by removing the specific isolation time for the main steam isolation valves from the associated TS Surveillance Requirements (SRs) and by replacing it with the requirement to verify the valve isolation time is within limits. The changes are consistent with Nuclear Regulatory Commission (NRC) approved Industry/Technical Specification Task Force (TSTF)-491, Removal of the Main Steam and Main Feedwater Valve Isolation Time from Technical Specifications, Revision 2. The proposed amendments deviate from TSTF-491 in that the current PINGP TS and associated SRs for the main feedwater isolation valves do not include valve closure times, and thus these changes in TSTF-491 are not applicable to the PINGP TSs and are not adopted.

The NRC staff issued a notice of opportunity for comment in the Federal Register on October 5, 2006 (71 FR 58884), on possible amendments concerning the consolidation line item improvement process (CLIIP), including a model safety evaluation and a model no significant hazards consideration determination. The NRC staff subsequently issued a notice of availability of the models for referencing in license amendment applications in the Federal Register on December 29, 2006 (71 FR 78472) as part of the CLIIP. In its application dated May 10, 2007, the licensee affirmed the applicability of the following determination.

Basis for proposed no significant hazards consideration determination: As required by 10 CFR 50.91(a), an analysis of the issue of no significant hazards consideration is presented below:

Criterion 1—The Proposed Change Does Not Involve a Significant Increase in the Probability or Consequences of an Accident Previously Evaluated

The proposed change allows relocating main steam and main feedwater valve isolation times to the Licensee Controlled Document that is referenced in the Bases. The proposed change is described in Technical Specification Task Force (TSTF) Standard TS Change Traveler TSTF-491 related to relocating the main steam and main feedwater valves isolation times to the Licensee Controlled Document that is referenced in the Bases and replacing the isolation time with the phrase, within limits.

The proposed change does not involve a physical alteration of the plant (no new or different type of equipment will be installed). The proposed changes relocate the main steam and main feedwater isolation valve times to the Licensee Controlled Document that is referenced in the Bases. The requirements to perform the testing of these isolation valves are retained in the TS. Future changes to the Bases or licensee-controlled document will be evaluated pursuant to the requirements of 10 CFR 50.59, Changes, test and experiments, to ensure that such changes do not result in more than minimal increase in the probability or consequences of an accident previously evaluated.

The proposed changes do not adversely affect accident initiators or precursors nor alter the design assumptions, conditions, and configuration of the facility or the manner in which the plant is operated and maintained. The proposed changes do not adversely affect the ability of structures, systems and components (SSCs) to perform their intended safety function to mitigate the consequences of an initiating event within the assumed acceptance limits. The proposed changes do not affect the source term, containment isolation, or radiological consequences of any accident previously evaluated. Further, the proposed changes do not increase the types and the amounts of radioactive effluent that may be released, nor significantly increase individual or cumulative occupation/public radiation exposures.

Therefore, the changes do not involve a significant increase in the probability or consequences of any accident previously evaluated.

Criterion 2—The Proposed Change Does Not Create the Possibility of a New or Different Kind of Accident From any Previously Evaluated

The proposed changes relocate the main steam and main feedwater valve isolation times to the Licensee Controlled Document that is referenced in the Bases. In addition, the valve isolation times are replaced in the TS with the phrase “within limits.” The changes do not involve a physical altering of the plant (i.e., no new or different type of equipment will be installed) or a change in methods governing normal plant operation. The requirements in the TS continue to require testing of the main steam and main feedwater isolation valves to ensure the proper functioning of these isolation valves.

Therefore, the changes do not create the possibility of a new or different kind of accident from any previously evaluated.

Criterion 3—The Proposed Change Does Not Involve a Significant Reduction in the Margin of Safety

The proposed changes relocate the main steam and main feedwater valve isolation times to the Licensee Controlled Document that is referenced in the Bases. In addition, the valve isolation times are replaced in the TS with the phrase “within limits.” Instituting the proposed changes will continue to ensure the testing of main steam and main feedwater isolation valves. Changes to the Bases or license controlled document are performed in accordance with 10 CFR 50.59. This approach provides an effective level of regulatory control and ensures that main steam and feedwater isolation valve testing is conducted such that there is no significant reduction in the margin of safety.

The margin of safety provided by the isolation valves is unaffected by the proposed changes since there continue to be TS requirements to ensure the testing of main steam and main feedwater isolation valves. The proposed changes maintain sufficient controls to preserve the current margins of safety.

The NRC staff has reviewed the licensees analysis and, based on this review, it appears that the three standards of 10 CFR 50.92(c) are satisfied. Therefore, the NRC staff proposes to determine that the amendment requests involve no significant hazards consideration.

Attorney for licensee: Jonathan Rogoff, Esquire, Vice President, Counsel & Secretary, Nuclear Management Company, LLC, 700 First Street, Hudson, WI 54016.

NRC Acting Branch Chief: Travis L. Tate.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of amendment request: October 30, 2006.

Description of amendment request: The proposed amendment would revise Technical Specification (TS) Section 5.3.1, Administrative controls, to (1) Improve administrative flexibility and clarity in the wording of the specification and (2) replace a specific position title with a generic position title for the senior individual in charge of health physics.

Basis for proposed no significant hazards consideration determination: As required by 10 CFR 50.91(a), an analysis of the issue of no significant hazards consideration is presented below:

1. Does the proposed change involve a significant increase in the probability or consequences of an accident previously evaluated?

The proposed change to Technical Specifications Administrative Controls Section 5.3.1 involves the use of a more generic designation for the unit staff position responsible for Health Physics without reducing the level of authority required for that position. The proposed change also allows the flexibility to use an accredited program for qualifying personnel to fill unit staff positions, which represents an acceptable alternative to the qualification requirements for these positions as currently specified in the Technical Specifications. Since the proposed changes are administrative in nature, they do not involve any physical changes to any structures, systems, or components, nor will their performance requirements be altered. The proposed changes also do not affect the operation, maintenance, or testing of the plant. Therefore, the response of the plant to previously analyzed accidents will not be affected. Consequently, the proposed changes do not involve a significant increase or any increase in the probability or consequences of an accident previously evaluated.

2. Does the proposed change create the possibility of a new or different kind of accident from any previously evaluated?

The proposed changes to the Technical Specifications will have no adverse impact on the overall qualification of the unit staff. The use of a more generic designation for the unit staff position responsible for Health Physics and the alternative use of an accredited program that has been endorsed by the NRC will ensure the educational requirements and power plant experience for each unit staff position are properly satisfied and will continue to fulfill applicable regulatory requirements. Also, since no change is being made to the design, operation, maintenance, or testing of the plant, no new methods of operation or failure modes are introduced by the proposed changes. Therefore, the possibility of a new or different kind of accident from any previously evaluated is not created.

3. Does the proposed change involve a significant decrease in the margin of safety?

The proposed changes to the Technical Specifications will have no adverse impact on the onsite organizational features necessary to assure safe operation of the plant. Lines of authority for plant operation are unaffected by the proposed changes. Also, the adoption of the more generic designation of the individual responsible for Health Physics will reduce the regulatory burden of having to devote limited resources to process a license amendment whenever a title change for this position is implemented. Accordingly, this reduction in regulatory burden and the option to use an accredited program endorsed by NRC to qualify the unit staff will improve plant efficiency without compromising plant safety. Therefore, the proposed changes do not involve a significant decrease in the margin of safety.

The NRC staff proposes to determine that the amendment request involves no significant hazards consideration.

Attorney for licensee: Ernest L. Blake, Jr., Esquire, Shaw, Pittman, Potts and Trowbridge, 2300 N Street, NW., Washington, DC 20037.

NRC Branch Chief: Evangelos C. Marinos.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of amendment request: June 5 and June 11, 2007.

Description of amendment request: The proposed amendment would revise Technical Specification (TS) 3.1.4, Control Rod Scram Times, using the consolidated line-term improvement process. These changes are based on TS Task Force (TSTF) change traveler TSTF-460, that has been approved generically for the boiling water reactor (BWR) Standard TS, NUREG-1433 (BWR/4). The frequency of Surveillance Requirement 3.1.4.2, control rod scram time testing, is revised from “120 days cumulative operation in MODE 1” to “200 days cumulative operation in MODE 1.”

The NRC staff issued a notice of availability of a model safety evaluation and model no significant hazards consideration (NSHC) determination for referencing in license amendment applications in the Federal Register on August 23, 2004 (69 FR 51854). The licensee affirmed the applicability of the model NSHC determination in its application and supplement dated June 5 and June 11, 2007.

Basis for proposed no significant hazards consideration determination: As required by 10 CFR 50.91(a), an analysis of the issue of no significant hazards consideration is presented below:

1. Does the change involve a significant increase in the probability or consequences of an accident previously evaluated?

Response: No.

The proposed change extends the frequency for testing control rod scram time testing from every 120 days of cumulative Mode 1 operation to 200 days of cumulative Mode 1 operation. The frequency of surveillance testing is not an initiator of any accident previously evaluated. The frequency of surveillance testing does not affect the ability to mitigate any accident previously evaluated, as the tested component is still required to be operable. Therefore, the proposed change does not involve a significant increase in the probability or consequences of an accident previously evaluated.

2. Does the change create the possibility of a new or different kind of accident from any accident previously evaluated?

Response: No.

The proposed change extends the frequency for testing control rod scram time testing from every 120 days of cumulative Mode 1 operation to 200 days of cumulative Mode 1 operation. The proposed change does not result in any new or different modes of plant operation. Therefore, the proposed change does not create the possibility of a new or different kind of accident from any previously evaluated.

3. Does the proposed change involve a significant reduction in a margin of safety?

Response: No.

The proposed change extends the frequency for testing control rod scram time testing from every 120 days of cumulative Mode 1 operation to 200 days of cumulative Mode 1 operation. The proposed change continues to test the control rod scram time to ensure the assumptions in the safety analysis are protected. Therefore, the proposed change does not involve a significant reduction in a margin of safety.

The NRC staff proposes to determine that the amendment request involves no significant hazards consideration.

Attorney for licensee: Ernest L. Blake, Jr., Esquire, Shaw, Pittman, Potts and Trowbridge, 2300 N Street, NW., Washington, DC 20037.

NRC Branch Chief: Evangelos C. Marinos.

Virginia Electric and Power Company, Docket Nos. 50-280 and 50-281, Surry Power Station, Unit Nos. 1 and 2, Surry County, Virginia

Date of amendment request: June 25, 2007.

Description of amendment request: The proposed change increases the maximum Technical Specification (TS) service water (SW) temperature limit from 95 °F to 100 °F, and revises the TS Figure 3.8-1, which provides allowable containment air partial pressure versus SW temperature.

Basis for proposed no significant hazards consideration determination: As required by 10 CFR 50.91(a), the licensee has provided its analysis of the issue of no significant hazards consideration, which is presented below:

1. Does the proposed change involve a significant increase in the probability or consequences of an accident previously evaluated?

Operating with increased maximum service water temperature limits does not affect the frequency of accident initiating events. Therefore, the probability of an accident previously analyzed is not increased. Plant systems supported by SW have been evaluated for operation with a service water temperature limit of 100 °F, and it determined that there is no operational impact when operating at the higher SW temperature.

Although the service water temperature limit is being increased, the containment will continue to meet its design basis acceptance criteria following a large-break loss of coolant accident as identified in the UFSAR [Updated Final Safety Analysis Report]. Therefore, there is no increase in the consequences of any accident previously evaluated resulting from operation of Surry Units 1 and 2 with an increased service water temperature limit.

2. Does the proposed change create the possibility of a new or different kind of accident from any accident previously evaluated?

There are no new failure modes or mechanisms associated with operating Surry Units 1 and 2 with an increased service water temperature limit of 100 °F. As noted above, the increased service water temperature limit does not affect plant operation, since plant systems supported by SW have been evaluated for operation with a SW temperature limit of 100 °F and no operational impact was identified. Therefore, there are no new or different kinds of accidents created by operation of Surry Units 1 and 2 with increased service water temperature limits.

3. Does the proposed change involve a significant reduction in the margin of safety?

The containment analysis acceptance criteria continue to be met when operating with the proposed increased maximum service water temperature limit. Containment integrity will not be challenged and will continue to meet its design basis acceptance criteria following a large break loss of coolant accident. Therefore, the existing margin of safety is not significantly reduced by operation of Surry Units 1 and 2 with increased service water temperature limits.

The NRC staff has reviewed the licensee's analysis and, based on this review, it appears that the three standards of 10 CFR 50.92(c) are satisfied. Therefore, the NRC staff proposes to determine that the amendment request involves no significant hazards consideration.

Attorney for licensee: Lillian M. Cuoco, Esq., Senior Counsel, Dominion Resources Services, Inc., Millstone Power Station, Building 475, 5th Floor, Rope Ferry Road, Rt. 156, Waterford, Connecticut 06385.

NRC Branch Chief: Evangelos C. Marinos.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, Docket No. 50-289, Three Mile Island Nuclear Station, Unit 1 (TMI-1), Dauphin County, Pennsylvania

Date of application for amendment: September 15, 2006, as supplemented by letters dated February 26, May 22, and June 5, 2007.

Brief description of amendment: The amendment revised Technical Specification Section 6.8.5, “Reactor Building Leakage Rate Testing Program,” to allow a one-time deferral of the next Type A, containment integrated leak rate test from “no later than September 2008” to “prior to startup from T1R18 refueling outage. The T1R18 refueling outage will begin no later than November 1, 2009.”

Date of issuance: June 29, 2007.

Effective date: As of the date of issuance and shall be implemented within 60 days.

Amendment No. 259.

Facility Operating License No. DPR-50. Amendment revised the license and the technical specifications.

Date of initial notice in Federal Register: December 19, 2006 (71 FR 75989).

The supplements dated February 26, May 22, and June 5, 2007 provided additional information that clarified the application, did not expand the scope of the application as originally noticed and did not change the NRC staff's original proposed no significant hazards determination. The Commission's related evaluation of the amendment is contained in a Safety Evaluation dated June 29, 2007.

No significant hazards consideration comments received: No.

Carolina Power & Light Company, Docket No. 50-261, H. B. Robinson Steam Electric Plant, Unit No. 2, Darlington County, South Carolina

Date of application for amendment: July 17, 2006.

Brief description of amendment: This amendment revises the containment design pressure requirements in Surveillance Requirements 3.6.8 and 5.5.16 due to a revision in the loss-of-coolant accident containment pressure analysis.

Date of issuance: June 15, 2007.

Effective date: As of the date of issuance and shall be implemented within 60 days.

Amendment No. 215.

Renewed Facility Operating License No. DPR-23. Amendment revises the technical specifications.

Date of initial notice in Federal Register: August 29, 2006 (71 FR 51225).

The Commission's related evaluation of the amendment is contained in a safety evaluation dated June 15, 2007.

No significant hazards consideration comments received: No.

Duke Power Company LLC, et al., Docket Nos. 50-413 and 50-414, Catawba Nuclear Station, Units 1 and 2, York County, South Carolina

Date of application for amendments: June 5, 2006 as supplemented April 4, 2007.

Brief description of amendments: The amendments revised the Technical Specification (TS) Section 3.8.1, “AC Sources—Operating,” surveillance requirement (SR) 3.8.1.13. The changes revised TS SR 3.8.1.13 and its associated Bases to state that the SR only verifies that non-emergency diesel generator (DG) trips are bypassed. The licensee stated that this change is based upon and consistent with Industry Technical Specification Task Force (TSTF), Standard TS Traveler, TSTF-400-A, Revision 1, “Clarify Surveillance Requirement on Bypass of DG Automatic Trips.”

Date of issuance: June 25, 2007.

Effective date: As of the date of issuance and shall be implemented within 30 days from the date of issuance.

Amendment Nos.: 236, 232.

Facility Operating License Nos. NPF-68 and NPF-81: Amendments revised the licenses and the technical specifications.

Date of initial notice in Federal Register: December 5, 2006 (71 FR 70555).

The supplement dated April 4, 2007, provided additional information that clarified the application, did not expand the scope of the application as originally noticed, and did not change the staff's original proposed no significant hazards consideration determination. The Commission's related evaluation of the amendments is contained in a Safety Evaluation dated June 25, 2007.

No significant hazards consideration comments received: No.

Duke Power Company LLC, Docket Nos. 50-369 and 50-370, McGuire Nuclear Station,Units 1 and 2, Mecklenburg County, North Carolina

Date of application for amendments: June 5, 2006, as supplemented April 4, 2007.

Brief description of amendments: The amendments revised TS 3.8.1, “AC Sources—Operating,” surveillance requirement (SR) 3.8.1.13. The changes revise the SR 3.8.1.13 and its associated Bases to state that the SR only verifies that non-emergency diesel generator (DG) trips are bypassed. The licensee stated that this change is based upon and consistent with Industry Technical Specification Task Force (TSTF), Standard TS Traveler, TSTF-400-A, Revision 1, “Clarify Surveillance Requirement on Bypass of DG Automatic Trips.”

Date of issuance: June 25, 2007.

Effective date: As of the date of issuance and shall be implemented within 30 days from the date of issuance.

Amendment Nos.: 242, 223.

Renewed Facility Operating License Nos. NPF-9 and NPF-17: Amendments revised the licenses and the technical specifications.

Date of initial notice in Federal Register: December 5, 2006 (71 FR 70555).

The supplement dated April 4, 2007, provided additional information that clarified the application, did not expand the scope of the application as originally noticed, and did not change the staff's original proposed no significant hazards consideration determination. The Commission's related evaluation of the amendments is contained in a Safety Evaluation dated June 25, 2007.

No significant hazards consideration comments received: No.

Entergy Nuclear Operations, Inc., Docket No. 50-333, James A. FitzPatrick Nuclear Power Plant, Oswego County, New York

Date of application for amendment: February 15, 2007.

Brief description of amendment: The proposed amendment would revise Technical Specification (TS) Section 3.10.1, “Inservice Leak and Hydrostatic Testing Operation,” to expand its scope to include provisions for temperature excursions greater than 212 °F as a consequence of inservice leak or hydrostatic testing, and to allow performance of control rod scram time testing and other required testing when initiated in conjunction with the performance of an inservice leak or hydrostatic test, while considering operational conditions to be in Mode 4. The changes are consistent with NRC approved Revision 0 to Technical Specification Task Force (TSTF) Improved Standard Technical Specification Change Traveler, TSTF-484, “Use of TS 3.10.1 for Scram Time Testing Activities.”

Date of issuance: June 21, 2007.

Effective date: As of the date of issuance, and shall be implemented within 30 days.

Amendment No.: 288.

Facility Operating License No. DPR-59: The amendment revised the License and the Technical Specifications.

Date of initial notice in Federal Register: April 10, 2007 (72 FR 17947).

The Commission's related evaluation of the amendment is contained in a Safety Evaluation dated June 21, 2007.

No significant hazards consideration comments received: No.

Entergy Operations, Inc., Docket No. 50-368, Arkansas Nuclear One, Unit No. 2, Pope County, Arkansas

Date of application for amendment: March 15, 2007.

Brief description of amendment: The amendment revises the Surveillance Requirement (SR) 4.6.2.1.d to require verification that containment spray nozzles are unobstructed following maintenance that could result in nozzle blockage, in lieu of the current SR of performing the test every 5 years.

Date of issuance: July 2, 2007.

Effective date: As of the date of issuance and shall be implemented within 60 days from the date of issuance.

Amendment No.: 272.

Renewed Facility Operating License No. NPF-6: Amendment revised the Technical Specifications/license.

Date of initial notice in Federal Register: April 24, 2007 (72 FR 20381).

The Commission's related evaluation of the amendment is contained in a Safety Evaluation dated July 2, 2007.

No significant hazards consideration comments received: No.

Exelon Generation Company, LLC, Docket Nos. 50-237 and 50-249, Dresden Nuclear Power Station, Units 2 and 3, Grundy County, Illinois

Date of application for amendment: June 2, 2006, as supplemented by letters dated August 18, 2006, October 5, 2006, and January 11, 2007.

Brief description of amendment: The amendments revise technical specification to increase the allowable as-found main steam safety valve code safety function lift setpoint tolerance from ±1 percent to ±3 percent to align Dresden Nuclear Power Station, Units 2 and 3, with the American Society of Mechanical Engineers Code for Operation and Maintenance of Nuclear Power Plants and reduce the number of non-safety significant Licensee Event Reports written due to TS violations caused by setpoint drifting.

Date of issuance: June 21, 2007.

Effective date: As of the date of issuance and shall be implemented within 60 days.

Amendment Nos.: 223 and 215.

Renewed Facility Operating License Nos. DPR-19 and DPR-25: The amendments revised the Technical Specifications and License.

Date of initial notice in Federal Register: August 15, 2006 (71 FR 46929).

The August 18, 2006, October 5, 2006, and January 11, 2007, supplements contained clarifying information and did not change the NRC staff's initial proposed finding of no significant hazards consideration.

The Commission's related evaluation of the amendments is contained in a Safety Evaluation dated June 21, 2007.

No significant hazards consideration comments received: No.

Exelon Generation Company, LLC, Docket Nos. 50-373 and 50-374, LaSalle County Station, Units 1 and 2, LaSalle County, Illinois

Date of application for amendments: March 16, 2006, as supplemented by letter dated April 6, 2007.

Brief description of amendments: The amendments revise allowable values for four reactor core isolation cooling leak detection functions in Technical Specification Table 3.3.6.1-1, “Primary Containment Isolation Instrumentation.”

Date of issuance: June 29, 2007.

Effective date: As of the date of issuance and shall be implemented within 60 days.

Amendment Nos.: 182/169.

Facility Operating License Nos. NPF-11 and NPF-18: The amendments revised the Technical Specifications and License.

Date of initial notice in Federal Register: August 15, 2006 (71 FR 46929).

The April 6, 2007 supplement, contained clarifying information and did not change the NRC staff's initial proposed finding of no significant hazards consideration.

The Commission's related evaluation of the amendments is contained in a Safety Evaluation dated June 29, 2007.

No significant hazards consideration comments received: No.

FirstEnergy Nuclear Operating Company, et al., Docket No. 50-440, Perry Nuclear Power Plant, Unit No. 1, Lake County, Ohio

Date of application for amendment: December 29, 2006.

Brief description of amendment: The amendment modifies the technical specifications requirements for scram discharge volume vent and drain valves.

Date of issuance: June 22, 2007.

Effective date: As of the date of issuance and shall be implemented within 90 days.

Amendment No.: 145.

Facility Operating License No. NPF-58: This amendment revised the Technical Specifications and License.

Date of initial notice in Federal Register: March 13, 2007 (72 FR 11388).

The Commission's related evaluation of the amendment is contained in a Safety Evaluation dated June 22, 2007.

No significant hazards consideration comments received: No.

FPL Energy Duane Arnold, LLC, Docket No. 50-331, Duane Arnold Energy Center, Linn County, Iowa

Date of application for amendment: July 17, 2006, as supplemented by letter dated March 20, 2007.

Brief description of amendment: The amendment revises the Technical Specification (TS) Limiting Condition for Operation (LCO) 3.6.3.1 to eliminate the requirement for the Containment Atmospheric Dilution system, allowing its removal from the Duane Arnold Energy Center. In a letter dated June 1, 2007, the licensee withdrew its request to change LCO 3.6.3.2, “Primary Containment oxygen Concentration,” to lengthen the duration of time for the primary containment to be de-inerted.

Date of issuance: June 28, 2007.

Effective date: As of the date of issuance and shall be implemented within 30 days.

Amendment No.: 265.

Facility Operating License No. DPR-49: The amendment revises the Technical Specification.

Date of initial notice in Federal Register: November 21, 2006 (71 FR 67395).

The supplemental information provided additional information that clarified the application, did not expand the scope of the application as originally noticed, and did not change the Nuclear Regulatory Commission's staff's original proposed no significant hazards consideration determination.

The Commission's related evaluation of the amendment is contained in a Safety Evaluation dated June 28, 2007.

No significant hazards consideration comments received: No.

Nuclear Management Company, LLC, Docket Nos. 50-282 and 50-306, Prairie Island Nuclear Generating Plant, Units 1 and 2, Goodhue County, Minnesota

Date of application for amendments: July 6, 2006, as supplemented by letters dated September 15 and December 26, 2006.

Brief description of amendments: The amendments incorporate new Large-Break Loss-of-Coolant Accident (LBLOCA) analyses using the realistic LBLOCA methodology in the Nuclear Regulatory Commission approved WCAP-16009-P-A, “Realistic Large Break LOCA Evaluation Methodology using Automated Statistical Treatment of Uncertainty Method (ASTRUM)” and revise TS 5.6.5.b to include reference to WCAP-16009-P-A.

Date of issuance: June 28, 2007.

Effective date: As of the date of issuance and shall be implemented with the next fuel cycle (Unit 1 Cycle 25) commencing following the Winter 2008 refueling for Unit 1, and implemented within 90 days for Unit 2.

Amendment Nos.: 179 and 169.

Facility Operating License Nos. DPR-42 and DPR-60: Amendments revised the Technical Specifications.

Date of initial notice in Federal Register: September 12, 2006 (71 FR 53718).

The supplemental letters contained clarifying information and did not change the initial no significant hazards consideration determination, and did not expand the scope of the original Federal Register notice.

The Commission's related evaluation of the amendments is contained in a Safety Evaluation dated June 28, 2007.

No significant hazards consideration comments received: No.

Pacific Gas and Electric Company, Docket Nos. 50-275 and 50-323, Diablo Canyon Nuclear Power Plant, Unit Nos. 1 and 2, San Luis Obispo County, California

Date of application for amendments: December 29, 2006.

Brief description of amendments: The amendments revised Technical Specification (TS) Section 5.5.8, “Inservice Testing Program,” in order to update references to the American Society of Mechanical Engineers Boiler and Pressure Vessel Code. Specifically, the change adopted the administrative, editorial, and clarification TS changes contained in TS Task Force (TSTF)-479, Revision 0, “Changes to Reflect Revision of 10 CFR [Title 10 of the Code of Federal Regulations] 50.55a,” and TSTF-497, Revision 0, “Limit Inservice Testing Program SR [Surveillance Requirement] 3.0.2 Application to Frequencies of 2 years or less.”

Date of issuance: June 25, 2007.

Effective date: As of its date of issuance and shall be implemented within 90 days from the date of issuance.

Amendment Nos.: Unit 1-196; Unit 2-197

Facility Operating License Nos. DPR-80 and DPR-82: The amendments revised the Facility Operating Licenses and Technical Specifications.

Date of initial notice in Federal Register: February 13, 2007 (72 FR 6784).

The Commission's related evaluation of the amendments is contained in a Safety Evaluation dated June 25, 2007.

No significant hazards consideration comments received: No.

Facility Operating License Nos. DPR-80 and DPR-82: The amendments revised the Facility Operating Licenses and Technical Specifications.

Date of initial notice in Federal Register: February 13, 2007 (72 FR 6784).

The Commission's related evaluation of the amendments is contained in a Safety Evaluation dated June 25, 2007.

No significant hazards consideration comments received: No.

Pacific Gas and Electric Company, Docket Nos. 50-275 and 50-323, Diablo Canyon Nuclear Power Plant, Unit Nos. 1 and 2, San Luis Obispo County, California

Date of application for amendments: December 29, 2006.

Brief description of amendments: The amendments revise TS 5.5.16, “Containment Leakage Rate Testing Program,” to comply with the requirements of 10 CFR 50.55a(g)(4) for components classified as Code Class CC.

Date of issuance: June 26, 2007.

Effective date: As of its date of issuance and shall be implemented within 90 days from the date of issuance.

Amendment Nos.: Unit 1-197; Unit 2-198.

Facility Operating License Nos. DPR-80 and DPR-82: The amendments revised the Facility Operating Licenses and Technical Specifications.

Date of initial notice in Federal Register: February 13, 2007 (72 FR 6785).

The Commission's related evaluation of the amendments is contained in a Safety Evaluation dated June 26, 2007.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of application for amendments: January 30, 2007, as supplemented April 11, 2007.

Brief description of amendments: The amendments revised staff position duties and titles in Sections 2 and 5 of the Technical Specifications.

Date of issuance: June 7, 2007.

Effective date: As of the date of issuance and shall be implemented within 30 days from the date of issuance.

Amendment Nos.: 252, 196.

Renewed Facility Operating License Nos. DPR-57 and NPF-5: Amendments revised the licenses and the technical specifications.

Date of initial notice in Federal Register: February 13, 2007 (72 FR 6790).

The supplement dated April 11, 2007, provided additional information that clarified the application, did not expand the scope of the application as originally noticed, and did not change the staff's original proposed no significant hazards consideration determination. The Commission's related evaluation of the amendments is contained in a Safety Evaluation dated June 7, 2007.

No significant hazards consideration comments received: No.

Southern Nuclear Operating Company, Inc., Docket Nos. 50-424 and 50-425, Vogtle Electric Generating Plant, Units 1 and 2, Burke County, Georgia

Date of application for amendments: January 30, 2007, as supplemented April 11, 2007.

Brief description of amendments: The amendments revised staff position duties and titles in Sections 2 and 5 of the Technical Specifications.

Date of issuance: June 12, 2007.

Effective date: As of the date of issuance and shall be implemented within 30 days from the date of issuance.

Amendment Nos.: 148, 128.

Renewed Facility Operating License Nos. NPF-68 and NPF-81: Amendments revised the licenses and the technical specifications.

Date of initial notice in Federal Register: February 13, 2007 (72 FR 6791).

The supplement dated April 11, 2007, provided additional information that clarified the application, did not expand the scope of the application as originally noticed, and did not change the staff's original proposed no significant hazards consideration determination. The Commission's related evaluation of the amendments is contained in a Safety Evaluation dated June 12, 2007.

No significant hazards consideration comments received: No.

STP Nuclear Operating Company, Docket Nos. 50-498 and 50-499, South Texas Project, Units 1 and 2, Matagorda County, Texas

Date of amendment request: March 30, 2006, as supplemented by letters dated October 2, 2006, and February 26, 2007.

Brief description of amendments: The amendments revise TS 3.3.3.6, “Accident Monitoring Instrumentation,” with respect to the required action for inoperable wide range reactor coolant temperature, wide range steam generator water level, and auxiliary feedwater flow instruments.

Date of issuance: June 13, 2007.

Effective date: As of the date of issuance and shall be implemented within 60 days of issuance.

Amendment Nos.: Unit 1-177; Unit 2-164.

Facility Operating License Nos. NPF-76 and NPF-80: The amendments revised the Facility Operating Licenses and Technical Specifications.

Date of initial notice in Federal Register: June 6, 2006 (71 FR 32608). The supplemental letters dated October 2, 2006, and February 26, 2007, provided additional information that clarified the application, did not expand the scope of the application as originally noticed, and did not change the staff's original proposed no significant hazards consideration determination as published in the Federal Register.

The Commission's related evaluation of the amendments is contained in a Safety Evaluation dated June 13, 2007.

No significant hazards consideration comments received: No.

STP Nuclear Operating Company, Docket Nos. 50-498 and 50-499, South Texas Project, Units 1 and 2, Matagorda County, Texas

Date of amendment request: April 4, 2006.

Brief description of amendments: The amendment request changed the name of one licensee, Texas Genco, LP (Texas Genco), to NRG South Texas LP. The name change results from the purchase of Texas Genco's parent company by NRG Energy, Inc. as approved by the NRC in January 2006.

Date of issuance: June 29, 2007.

Effective date: As of the date of issuance and shall be implemented within 30 days of issuance.

Amendment Nos.: Unit 1-178; Unit 2-165.

Facility Operating License Nos. NPF-76 and NPF-80: The amendments revised the Facility Operating Licenses.

Date of initial notice in Federal Register: May 9, 2007 (72 FR 26428).

The Commission's related evaluation of the amendments is contained in a Safety Evaluation dated June 29, 2007.

No significant hazards consideration comments received: No.

Dated at Rockville, Maryland, this sixth day of July 2007.
For the Nuclear Regulatory Commission.
Catherine Haney,
Director, Division of Operating Reactor Licensing, Office of Nuclear Reactor Regulation.

[FR Doc. E7-13537 Filed 7-16-07; 8:45 am]

BILLING CODE 7590-01-P